DEPARTMENT OF HEALTH AND HUMAN SERVICES

Food and Drug Administration

Renovations in the Division of Dockets Management

AGENCY: Food and Drug Administration, HHS.

ACTION: Notice.

SUMMARY: The Food and Drug Administration (FDA) is announcing the partial closing of the Division of Dockets Management (DDM) on September 9, 2004, to September 14, 2004. During the renovations in DDM, it is necessary to partially close the office to allow the staff and others to store and dismantle furniture and other items. The purpose of this document is to inform the public in advance to avoid confusion in carrying out DDM's functions.

DATES: On September 10, 2004, the office and open space areas of DDM will be painted and the carpet replaced. Therefore, from September 9, 2004, to September 14, 2004, DDM will be partially closed. During this time, the public reading room will be open from 9 a.m. to 4 p.m., normal business hours, to accept hand-delivered documents, but will not provide other services.

FOR FURTHER INFORMATION CONTACT: Jennie C. Butler, Division of Dockets Management (HFA-305), Food and Drug Administration, 5630 Fishers Lane, rm. 1061, Rockville, MD 20852, 301-827-6880, e-mail: jbutler1@oc.fda.gov.

ADDRESSES: Anyone wishing to hand deliver documents to DDM should go to 5630 Fishers Lane, rm. 1061, Rockville, MD 20852. Normal operations of DDM will resume on September 15, 2004. Please note: The telephones will be unavailable from 1 p.m. on September 10, 2004, through 12 noon on September 13, 2004.

SUPPLEMENTARY INFORMATION:

I. Background

DDM, which is part of the Office of Management, is responsible for many activities under 21 CFR 10.20. The major functions of DDM include the following: (1) Serving as the entry point for citizen petitions, comments, hearing requests, and other documents related to FDA's rulemaking and administrative activities; (2) maintaining a public reading room, in which documents are available for public inspections; (3) providing copies of official records maintained in accordance with the Freedom of Information Act; and (4) providing advice and guidance regarding filing requirements pertaining to FDA's rulemaking or administrative activities.

Dated: September 2, 2004.
William K. Hubbard,
Associate Commissioner for Policy and Planning.

[FR Doc. 04-20394 Filed 9-3-04; 11:49 am]

BILLING CODE 4160-01-S